GENERAL SERVICES ADMINISTRATION

[OMB Control No. 3090-0118; Docket 2017-0001; Sequence 2]

Information Collection; Statement of Witness, Standard Form 94

AGENCY: Federal Vehicle Policy Division, General Services Administration (GSA).

ACTION: Notice of a request for comments regarding a reinstatement, with change, to an OMB clearance.

SUMMARY: Under the provisions of the Paperwork Reduction Act of 1995, GSA has submitted to the Office of Management and Budget (OMB) a request to review and approve a reinstatement, with change, to an information collection requirement concerning Standard Form 94, Statement of Witness.

DATES: Submit comments on or before June 27, 2017.

FOR FURTHER INFORMATION CONTACT: Ray Wynter, Federal Vehicle Policy Division, 202-501-3802, or via email at ray.wynter@gsa.gov.

ADDRESSES: Submit comments identified by Information Collection 3090-0118, Statement of Witness, SF 94, by any of the following methods: Regulations.gov: http://www.regulations.gov.

Submit comments via the Federal eRulemaking portal by searching the OMB control number. Select the link “Submit a Comment” that corresponds with “Information Collection 3090-0118, Statement of Witness, SF 94.” Follow the instructions provided at the “Submit a Comment” screen. Please include your name, company name (if any), and “Information Collection 3090-0118, Statement of Witness, SF 94” on your attached document.

• Mail: General Services Administration, Regulatory Secretariat Division (MVCB), 1800 F Street NW., Washington, DC 20405. ATTN: Ms. Sosa/IC 3090-0118, Statement of Witness, SF 94.

Instructions: Please submit comments only and cite Information Collection 3090-0118, Statement of Witness, SF 94, in all correspondence related to this collection. Comments received generally will be posted without change to http://www.regulations.gov, including any personal and/or business confidential information provided. To confirm receipt of your comment(s), please check www.regulations.gov, approximately two to three days after submission to verify posting (except allow 30 days for posting of comments submitted by mail).

SUPPLEMENTARY INFORMATION:

A. Purpose

GSA is requesting the Office of Management and Budget (OMB) to review and approve information collection, 3090-0118, Statement of Witness, SF 94. This form is used by all Federal agencies to report accident information involving U.S. Government motor vehicles.

B. Annual Reporting Burden

Respondents: 874.

Responses per Respondent: 1.

Total Annual Responses: 874.

Hours per Response: .333.

Total Burden Hours: 291.

C. Public Comment

Public comments are particularly invited on: Whether this collection of information is necessary and whether it will have practical utility; whether our estimate of the public burden of this collection of information is accurate, and based on valid assumptions and methodology; ways to enhance the quality, utility, and clarity of the information to be collected.

Obtaining Copies of Proposals: Requesters may obtain a copy of the information collection documents from the General Services Administration, Regulatory Secretariat Division (MVCB), 1800 F Street NW., Washington, DC 20405, telephone 202-501-4755. Please cite OMB Control No. 3090-0118, Statement of Witness, SF 94, in all correspondence.

Dated: April 18, 2017.
Steve Grewal,
Deputy Chief Information Officer, General Services Administration.

[FR Doc. 2017-08603 Filed 4-27-17; 8:45 am]

BILLING CODE 6820-34-P